DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by December 30, 2005.

Title, Form, and OMB Number: Customer Service Survey—Regulatory Program, U.S. Army Corps of Engineers; ENG Form 5065; OMB Control Number 0710-0012.

Type of Request: Extension.

Number of Respondents: 60,000.

Responses Per Respondent: 1.

Annually Responses: 60,000.

Average Burden Per Response: 15 minutes.

Annual Burden Hours: 15,000.

Needs and Uses: The survey of applicants who are required to obtain permits from the U.S. Army Corps of Engineers to build on or conduct dredge and fill operations in United States waters. Opinions on the quality of service are used to make program improvements.

Affected Public: Business or other for-profit; individuals or households; not-for-profit institutions; farms; and state, local or tribal government.

Frequency: On occasion.

Respondents Obligation: Voluntary.

OMB Desk Officer: Mr. James Laity.

Written comments and recommendations on the proposed information collection should be sent to Mr. Laity at the Office of Management and Budget, Desk Officer for DoD, Room 10236, New Executive Office Building, Washington, DC 20503.

DOD Clearance Officer: Ms. Patricia Toppings.

Written requests for copies of the information collection proposal should be sent to Ms. Toppings at WHS/ESD/Information Management Division, 1777 North Kent Street, RPN, Suite 11000, Arlington, VA 22209-2133.

Dated: November 21, 2005.
Patricia L. Toppings,
Alternate OSD Federal Register Liaison Officer, Department of Defense.

[FR Doc. 05-23485 Filed 11-29-05; 8:45 am]

BILLING CODE 5001-06-M